DEPARTMENT OF ENERGY

Federal Energy Regulatory Commission

[Docket Nos. CP02-31-000; CP07-457-000; CP06-76-000]

Stephen Kohlhase, v. Iroquois Gas Transmission System, L.P., Algonquin Gas Transmission, LLC; Notice of Complaint

Take notice that on February 12, 2016, pursuant to section 5 of the Natural Gas Act (NGA) ¹ and section 385.206 of the Commission's Rules of Practice and Procedure,² Stephen Kohlhase (Complainant) filed a formal complaint against Iroquois Gas Transmission System, L.P. and Algonquin Gas Transmission (collectively, Respondents) alleging that a 2009 modification of the Brookfield Compressor Station in Brookfield, Connecticut, and related pipeline infrastructure, caused an increase in low-frequency noise and vibration in violation of the Commission's regulations.³

¹ 15 U.S.C. 717d (2012).

² 18 CFR 385.206 (2015).

³ The Complainant cites the noise quality specifications in sections 380.12(k)(4)(v)(A) and (B) of the Commission's regulations.

The complainant certifies that copies of the complaint were served on the contacts for the Respondents as listed on the Commission's list of Corporate Officials.

Any person desiring to intervene or to protest this filing must file in accordance with Rules 211 and 214 of the Commission's Rules of Practice and Procedure.⁴ Protests will be considered by the Commission in determining the appropriate action to be taken, but will not serve to make protestants parties to the proceeding. Any person wishing to become a party must file a notice of intervention or motion to intervene, as appropriate. The Respondents' answer, motions to intervene, and protests must be served on the Complainant.

⁴ 18 CFR 385.211 and 385.214 (2015).

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on March 7, 2016.

Dated: February 24, 2016.
Nathaniel J. Davis, Sr.,
Deputy Secretary.

[FR Doc. 2016-04952 Filed 3-4-16; 8:45 am]

BILLING CODE 6717-01-P